DEPARTMENT OF THE INTERIOR

National Park Service

Notice of Availability of the Draft United States World Heritage Periodic Report for Public Review

AGENCY: National Park Service, Department of the Interior.

SUMMARY: The National Park Service (NPS) announces the availability of the draft United States World Heritage Periodic Report for public review. The draft Periodic Report was prepared in compliance with US commitments under the World Heritage Convention, an international conservation treaty. The Periodic Report consists of the following three components: Section I, a national overview report on US implementation of the World Heritage Convention in the context of overall cultural and natural resource protection and management in the nation; Section II, individual site reports on the current status of each US World Heritage Site with particular reference to the condition of the outstanding universal value for which the site was inscribed on the World Heritage List; and, a joint US-Canada North American Regional Report outlining the key strengths and issues facing World Heritage in the region.

Periodic reporting provides an opportunity for the United States and Canada to raise international awareness of their World Heritage Sites and to provide for the continued protection of these sites and their outstanding universal value.

DATES: There will be a 60-day public review period for these documents. Comments must be received on or before November 1, 2004.

ADDRESSES: The US World Heritage Periodic Report will be available to the public on the NPS Office of International Affairs Web site at http://www.nps.gov/oia/topics/periodic.htm.

FOR FURTHER INFORMATION CONTACT: Stephen Morris, National Park Service, Office of International Affairs, 1849 C Street, NW., (org. code 0050), Washington, DC 20240; or by calling (202) 354-1800.

SUPPLEMENTARY INFORMATION: Under the World Heritage Convention, both the United States and Canada are required to submit a country-specific periodic report and a joint regional periodic report for North America, by the end of 2004. Periodic reporting provides the World Heritage Committee with an overview of each participating nation's implementation of the World Heritage Convention and a “snapshot” of current conditions at World Heritage Sites.

In 1998, the World Heritage Committee approved a periodic reporting format and process to provide up-to-date information about the application of the World Heritage Convention and the state of conservation of World Heritage Sites around the world. The Periodic Report for North America (followed by the Periodic Report for Europe) once accepted by the World Heritage Committee, represent the conclusion of the first cycle of periodic reporting by the various regions of the world as defined by the World Heritage Committee.

Each periodic report is comprised of three sections:

In Section I, each country reports on the application of the World Heritage Convention. This includes: Identifying properties of cultural or natural value on their territory; legal measures and efforts to protect, conserve and present cultural and natural heritage; international cooperation and fund-raising; and education, information and awareness-building activities.

Section II describes the state of conservation of specific World Heritage Sites located in each country and updates the information that was provided to the World Heritage Committee at the time of inscription. The main objective is to assess whether the World Heritage values, for which the property was inscribed on the World Heritage List, are being maintained over time.

The National Park Service is responsible for developing the United States' country-specific periodic report and Parks Canada is responsible for developing Canada's country-specific periodic report. The United States and Canada worked together to develop the third component, a joint regional report outlining the major strengths and issues facing World Heritage in the region as a whole. Both countries have coordinated consultations with World Heritage Site managers and information sharing with key stakeholders.

The ultimate objective is to produce concise, accurate periodic reports for both the United States and Canada, and a joint regional periodic report for North America that fully address the requirements of the World Heritage convention and focus on the criteria established by the World Heritage Committee.

Public Comment Solicitation: Persons wishing to comment on these documents may do so by mailing written comments to Stephen Morris, National Park Service, Office of International Affairs, 1849 C Street, NW., (org. code 0050), Washington, DC 20240. They also may submit written comment via e-mail to WASO_Office_of_International_Affairs@nps.gov (include name and return address in the e-mail message).

The NPS practice is to make comments, including names and home addresses of respondents, available for public review during regular business hours. Individual respondents may request we withhold their home address from the record, which we will honor to the extent allowable by law. There also may be circumstances in which we would withhold from the record a respondent's identity, as allowable by law. If you wish us to withhold your name and/or address, you must state this prominently at the beginning of your comment. However, we will not consider anonymous comments. We will make all submissions from organizations or businesses, and from individuals identifying themselves as representatives or officials of organizations or businesses, available for public inspection in their entirety.

Dated: August 5, 2004.
Paul Hoffman,
Deputy Assistant Secretary, Fish and Wildlife and Parks.

[FR Doc. 04-19788 Filed 8-30-04; 8:45 am]

BILLING CODE 4312—52—M